SECURITIES AND EXCHANGE COMMISSION

Sunshine Act Meeting

Notice is hereby given, pursuant to the provisions of the Government in the Sunshine Act, Public Law 94-409, that the Securities and Exchange Commission Investor Advisory Committee will hold a telephonic meeting on Tuesday, June 7, 2016. The meeting will begin at 11:00 a.m. (ET) and conclude at 12:30 p.m. and will be open to the public via telephone at 1-888-240-3210, participant code 7250901.

On May 19, 2016, the Commission issued notice of the Committee meeting (Release No. 33-10079), indicating that the meeting is open to the public, and inviting the public to submit written comments to the Committee. This Sunshine Act notice is being issued because a quorum of the Commission may attend the meeting.

The agenda for the meeting includes: A discussion of Market Structure subcommittee recommendations to enhance information for bond market investors; and a discussion regarding the Commission's concept release on business and financial disclosure required by Regulation S-K (which may include a recommendation of the Investor as Owner subcommittee).

For further information, please contact the Office of the Secretary at (202) 551-5400.
Dated: May 31, 2016.
Brent J. Fields,
Secretary.

[FR Doc. 2016-13213 Filed 6-1-16; 11:15 am]

BILLING CODE 8011-01-P